NUCLEAR REGULATORY COMMISSION

[NRC-2010-0076]

Solicitation of Topics for Discussion at a Spent Fuel Storage and Transportation Licensing Conference

AGENCY: U.S. Nuclear Regulatory Commission.

ACTION: Solicitation of Topics for Discussion at a Spent Fuel Storage and Transportation Licensing Conference.

SUMMARY: The U.S. Nuclear Regulatory Commission (NRC) is soliciting input on topics for discussion at a proposed June 23-24, 2010, public meeting entitled, “Spent Fuel Storage and Transportation Licensing Conference.” The purpose of the proposed Conference is to discuss areas of improvement for spent fuel storage and transportation licensing activities conducted under 10 CFR part 71 and 10 CFR part 72. This solicitation will provide potential discussion topics on opportunities to improve interactions between staff and industry that could be more effective and efficient. Conference participants will be encouraged to interact with the NRC staff and with colleagues to discuss insights on the potential topics for discussion.

DATES: The solicitation period expires on May 14, 2010. The NRC will consider topics for discussion received after this date if it is practical to do so, but is able to ensure consideration of only those topics received on or before this date.

ADDRESSES: You may submit proposed topics for discussion by mail or fax. Topics for discussion submitted in writing will be posted on the NRC Web site. Because the topics for discussion will not be edited to remove any identifying or contact information, the NRC cautions you against including any information in your submission that you do not want to be publicly disclosed.

The NRC requests that any party soliciting or aggregating topics for discussion received from other persons for submission to the NRC inform those persons that the NRC will not edit their comments to remove any identifying or contact information, and therefore, they should not include any information in their comments that they do not want publicly disclosed.

Mail topics for discussion to: Michael T. Lesar, Chief, Rulemaking and Directives Branch (RDB), Office of Administration, Mail Stop: TWB-05-B01M, U.S. Nuclear Regulatory Commission, Washington, DC 20555-0001, or by fax to RDB at (301) 492-3446.

FOR FURTHER INFORMATION CONTACT: Kevin M. Witt, Division of Spent Fuel Storage and Transportation, Office of Nuclear Material Safety and Safeguards (NMSS), U.S. Nuclear Regulatory Commission (NRC), Rockville, MD 20852. Telephone: (301) 492-3323; fax number: (301) 492 3348; e-mail: Kevin.Witt@nrc.gov.

This order.

Dated at Rockville, Maryland, this 18th day of February, 2010. For the Nuclear Regulatory Commission.
Eric Benner,
Chief, Licensing Branch, Division of Spent Fuel Storage and Transportation, Office of Nuclear Material Safety and Safeguards.

[FR Doc. 2010-4279 Filed 3-1-10; 8:45 am]

BILLING CODE 7590-01-P